DEPARTMENT OF HOMELAND SECURITY

Coast Guard

33 CFR Part 117

[CGD07-03-046]

Drawbridge Operation Regulations; Sanibel Causeway Bridge, Okeechobee Waterway, Punta Rassa, FL

AGENCY: Coast Guard, DHS.

ACTION: Notice of temporary deviation from regulations.

SUMMARY: The Commander, Seventh Coast Guard District, has approved a temporary deviation from the regulations governing the operation of the Sanibel Causeway bridge across the Okeechobee Waterway, Punta Rassa, Florida. This temporary deviation allows the owner to facilitate the evacuation of vehicular traffic during the afternoon rush hour, while emergency repairs to the two low level fixed bridges that span a portion of the causeway are underway, by allowing the bascule bridge to open only on the hour, from 2 p.m. until 6 p.m., Monday through Friday, from March 17, 2003 until April 25, 2003.

DATES: This temporary deviation is effective from 2 p.m., March 17, 2003, until 6 p.m., April 25, 2003.

ADDRESSES: Material received from the public, as well as documents indicated in this preamble as being available in the docket, are part of docket [CGD07-03-046] and are available for inspection or copying at Commander (obr), Seventh Coast Guard District, 909 S.E. 1st Avenue, Room 432, Miami, FL 33131 between 8 a.m. and 4 p.m., Monday through Friday, except Federal holidays.

FOR FURTHER INFORMATION CONTACT: Mr. Barry Dragon, Project Manager, Seventh Coast Guard District, Bridge Branch at (305) 415-6743.

SUPPLEMENTARY INFORMATION: The Sanibel Causeway drawbridge is part of a two-lane narrow, undivided arterial roadway, which is the only roadway on and off Sanibel Island. This roadway also has two low level fixed bridges, which are in need of emergency repairs and has necessitated the owner to provide only one lane of arterial service to vehicular traffic for safety reasons. In order to complete emergency repairs in a safe and timely manner, the owner of all three bridges has requested that the bascule bridge only open on the hour, from 2 p.m. until 6 p.m., Monday through Friday, March 17, 2003 to April 25, 2003, in order to safely allow the rush hour traffic to exit the island via the causeway.

The Commander, Seventh Coast Guard District has granted a temporary deviation from the operating requirements listed in 33 CFR 117.317(j) to allow the Sanibel Causeway drawbridge to only open on the hour from 2 p.m. until 6 p.m., Monday through Friday, March 17, 2003 to April 25, 2003.

Dated: March 13, 2003.
Greg Shapley,
Chief, Bridge Administration, Seventh Coast Guard District.

[FR Doc. 03-7383 Filed 3-27-03; 8:45 am]

BILLING CODE 4910-15-U